DEPARTMENT OF COMMERCE

National Oceanic and Atmospheric Administration

50 CFR Part 648

RIN 0648-BA71

Magnuson-Stevens Fishery Conservation and Management Act Provisions; Fisheries of the Northeastern United States; Atlantic Sea Scallop Fishery; Amendment 15 to the Atlantic Sea Scallop Fishery Management Plan

AGENCY: National Marine Fisheries Service (NMFS), National Oceanic and Atmospheric Administration (NOAA), Commerce.

ACTION: Notice of availability of a fishery management plan amendment; request for comments.

SUMMARY: NMFS announces that the New England Fishery Management Council (Council) has submitted Amendment 15 to the Atlantic Sea Scallop Fishery Management Plan (FMP) (Amendment 15), incorporating the Final Environmental Impact Statement (FEIS) and the Initial Regulatory Flexibility Analysis (IRFA), for review by the Secretary of Commerce. NMFS is requesting comments from the public on Amendment 15, which was developed primarily to implement annual catch limits (ACLs) and accountability measures (AMs) to bring the Scallop FMP into compliance with new requirements of the Magnuson-Stevens Fishery Conservation and Management Act (MSA). Amendment 15 includes additional measures recommended by the Council, including an adjustment to the overfishing definition, modification of the essential fish habitat (EFH) closed areas under the Scallop FMP, adjustments to measures for the Limited Access General Category fishery, adjustments to the scallop research set aside program, and additions to the list of measures that can be adjusted by framework adjustments.

DATES: Comments must be received by 5 p.m., Eastern Standard Time, on May 23, 2011.

ADDRESSES: An FEIS was prepared for Amendment 15 that describes the proposed action and its alternatives and provides a thorough analysis of the impacts of proposed measures and their alternatives. Copies of Amendment 15, including the FEIS and the IRFA, are available from Paul J. Howard, Executive Director, New England Fishery Management Council, 50 Water Street, Newburyport, MA 01950. These documents are also available online at http://www.nefmc.org.

You may submit comments, identified by 0648-BA71, by any one of the following methods:

• Electronic Submissions: Submit all electronic public comments via the Federal eRulemaking Portal http://www.regulations.gov.

• Fax: (978) 281-9135, Attn: Peter Christopher.

• Mail: Patricia A. Kurkul, Regional Administrator, NMFS, Northeast Regional Office, 55 Great Republic Drive, Gloucester, MA 01930. Mark the outside of the envelope, “Comments on Scallop Amendment 15.”

Instructions: All comments received are a part of the public record and will generally be posted to http://www.regulations.gov without change. All Personal Identifying Information (for example, name, address, etc.) voluntarily submitted by the commenter may be publicly accessible. Do not submit Confidential Business Information or otherwise sensitive or protected information. NMFS will accept anonymous comments. Attachments to electronic comments will be accepted in Microsoft Word, Excel, WordPerfect, or Adobe PDF file formats only.

FOR FURTHER INFORMATION CONTACT: Peter Christopher, Fishery Policy Analyst, phone 978-281-9288, fax 978-281-9135.

SUPPLEMENTARY INFORMATION: Background: In January 2007, the MSA was reauthorized and included a new provision requiring each FMP to use ACLs to prevent overfishing, including measures to ensure accountability should the ACLs be exceeded. For fishery resources that were determined to be overfished, the reauthorized MSA required that such measures must be implemented by 2010. For fishery resources that were not overfished, the reauthorized MSA required that such measures must be implemented by 2011. Scallop fishery management measures to comply with the reauthorized MSA's ACL and AM requirements were required for 2011 because the scallop resource is not overfished. To meet this requirement, the Council initiated development of Amendment 15 when, on March 5, 2008, it published a Notice of Intent to develop Amendment 15 (73 FR 11888) and prepare and EIS to analyze the impacts of the proposed management alternatives. The Council intended that Amendment 15 would address three goals: (1) Bring the Scallop FMP into compliance with new requirements of the re-authorized MSA; (2) address excess capacity in the limited access scallop fishery; and (3) consider measures to adjust several aspects of the overall program to make the scallop management plan more effective. Following the public comment period that ended on August 23, 2010, the Council adopted Amendment 15 on September 29, 2010. The Council voted to exclude permit stacking and leasing alternatives that were designed to address excess capacity after considering extensive written and oral public comment on the measures. Ultimately the Council rejected these measures due to concerns that the measures would have unacceptable negative economic and social impacts on the scallop fleet and fishing communities. As adopted by the Council, Amendment 15 includes the following measures:

• An acceptable biological catch (ABC) control rule that would set ABC at a level that has a 25-percent probability of exceeding the overfishing limit to account for scientific uncertainty in the assessment of the status of the scallop resource;

• Incidental and Northern Gulf of Maine (NGOM) catch limits;

• Separate scallop ACLs and AMs for the limited access and LAGC fleets;

• An annual catch target for the limited access fleet;

• A “Limited Access Disclaimer” that would retract an impending limited access fleet AM if the fishery has not exceeded the fishing mortality rate associated with ABC, and an associated provision to re-allocate catch to the LAGC fleet if the Disclaimer provision is implemented;

• A sub-ACL for yellowtail flounder coordinated with the Council's Northeast (NE) Multispecies FMP and AMs for the scallop fishery if the scallop fishery's yellowtail flounder sub-ACL is exceeded;

• Modification of the overfishing definition for scallops to make it more compatible with rotational area management and to be consistent with the most recent formal scallop resource stock assessment;

• An increase in the possession limit for limited access general category (LAGC) vessels from 400 to 600 lb per trip;

• An allowance for carryover of unused individual fishing quota (IFQ) for LAGC vessels;

• A provision to enable LAGC vessel owners to permanently transfer all or some IFQ separate from the vessel's LAGC permit;

• Revision of the essential fish habitat (EFH) closures under the Scallop FMP to make them consistent with EFH closed areas under the NE Multispecies FMP;

• Inclusion of third year default management measures under the biennial framework adjustment process;

• Additions to the list of frameworkable measures; and

• Several changes to the scallop research set aside program.

Amendment 15 would establish the mechanism for implementing ACLs and AMs, which would be the basis for scallop fishery specifications, including days-at-sea, access area trip allocations, and IFQs. Amendment 15 does not include actual limits and fishery specifications. These specifications would be established under Framework 22 to the FMP for fishing years 2011, 2012, and 2013. Framework 22 has been adopted and submitted by the Council for NMFS review.

Public comments are being solicited on Amendment 15 and its incorporated documents through the end of the comment period stated in this notice of availability. A proposed rule that would implement Amendment 15 will be published in the Federal Register for public comment. Public comments on the proposed rule must be received by the end of the comment period provided in this notice of availability of Amendment 15 to be considered in the approval/disapproval decision on the amendment. All comments received by May 23, 2011, whether specifically directed to Amendment 15 or the proposed rule for Amendment 15, will be considered in the approval/disapproval decision on Amendment 15. Comments received after that date will not be considered in the decision to approve or disapprove Amendment 15. To be considered, comments must be received by close of business on the last day of the comment period; that does not mean postmarked or otherwise transmitted by that date.

Authority: 16 U.S.C. 1801 et seq.

Dated: March 21, 2011.
Margo Schulze-Haugen,
Acting Director, Office of Sustainable Fisheries, National Marine Fisheries Service.

[FR Doc. 2011-7025 Filed 3-23-11; 8:45 am]

BILLING CODE 3510-22-P